NATIONAL CREDIT UNION ADMINISTRATION

12 CFR Part 701

Federal Credit Union Bylaws

AGENCY: National Credit Union Administration (NCUA).

ACTION: Proposed rule; Notice of extension of comment period.

SUMMARY: The NCUA Board recently issued a proposed rule to reincorporate the Federal Credit Union (FCU) Bylaws into NCUA regulations that provided a 60-day comment period. 72 FR 30984 (June 5, 2007). NCUA received a request to extend the comment period and the NCUA Board has decided to extend the comment period for an additional two weeks.

DATES: Comments must be received by August 20, 2007.

ADDRESSES: You may submit comments by any of the following methods (Please send comments by one method only):

• Federal eRulemaking Portal: http://www.regulations.gov. Follow the instructions for submitting comments.

• NCUA Web Site: http://www.ncua.gov/RegulationsOpinionsLaws/proposed_regs/proposed_regs.html. Follow the instructions for submitting comments.

• E-mail: Address to regcomments@ncua.gov. Include “[Your name] Comments on FCU Bylaws” in the e-mail subject line.

• Fax: (703) 518-6319. Use the subject line described above for e-mail.

• Mail: Address to Mary Rupp, Secretary of the Board, National Credit Union Administration, 1775 Duke Street, Alexandria, Virginia 22314-3428.

• Hand Delivery/Courier: Same as mail address.

Public inspection: All public comments are available on the agency's website at http://www.ncua.gov/RegulationsOpinionsLaws/comments as submitted, except as may not be possible for technical reasons. Public comments will not be edited to remove any identifying or contact information. Paper copies of comments may be inspected in NCUA's law library, at 1775 Duke Street, Alexandria, Virginia 22314, by appointment weekdays between 9 a.m. and 3 p.m. To make an appointment, call (703) 518-6546 or send an e-mail to OGC Mail @ncua.gov.

FOR FURTHER INFORMATION CONTACT: Elizabeth Wirick, Staff Attorney, Office of General Counsel, National Credit Union Administration, 1775 Duke Street, Alexandria, Virginia 22314-3428 or telephone: (703) 518-6540.

SUPPLEMENTARY INFORMATION: At its May meeting, the NCUA Board issued a proposed rule to reincorporate the FCU Bylaws into NCUA regulations. 72 FR 30984 (June 5, 2007). NCUA received a request to extend the comment period on the proposed rule for two weeks. Although the Board wants to proceed expeditiously with reincorporation of the Bylaws, it believes a two-week extension will facilitate submission of comments without causing undue delay to the rulemaking process. Accordingly, the comment period for the proposed rule reincorporating the FCU Bylaws into NCUA regulations is extended until August 20, 2007.

By the National Credit Union Administration Board on July 2, 2007.
Mary F. Rupp,
Secretary of the Board.

[FR Doc. E7-13273 Filed 7-6-07; 8:45 am]

BILLING CODE 7535-01-P